DEPARTMENT OF TRANSPORTATION

Federal Aviation Administration

14 CFR Part 97

[Docket No. 30598; Amdt. No. 3261]

Standard Instrument Approach Procedures, and Takeoff Minimums and Obstacle Departure Procedures; Miscellaneous Amendments

AGENCY: Federal Aviation Administration (FAA), DOT.

ACTION: Final rule.

SUMMARY: This rule establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective March 19, 2008. The compliance date for each SIAP, associated Takeoff Minimums, and ODP is specified in the amendatory provisions.

The incorporation by reference of certain publications listed in the regulations is approved by the Directory of the Federal Register as of March 19, 2008.

ADDRESSES: Availability of matter incorporated by reference in the amendment is as follows:

For Examination—

1. FAA Rules Docket, FAA Headquarters Building, 800 Independence Avenue, SW., Washington, DC 20591;

2. The FAA Regional Office of the region in which the affected airport is located;

3. The National Flight Procedures Office, 6500 South MacArthur Blvd., Oklahoma City, OK 73169 or,

4. The National Archives and Records Administration (NARA). For Information on the availability of this material at NARA, call 202-741-6030, or go to: http://www.archives.gov/federal_register/code_of_federal_regulations/ibr_locations.html.

Availability—All SIAPs are available online free of charge. Visit nfdc.faa.gov to register. Additionally, individual SIAP and Takeoff Minimums and ODP copies may be obtained from:

1. FAA Public Inquiry Center (APA-200), FAA Headquarters Building, 800 Independence Avenue, SW., Washington, DC 20591; or

2. The FAA Regional Office of the region in which the affected airport is located.

FOR FURTHER INFORMATION CONTACT: Harry J. Hodges, Flight Procedure Standards Branch (AFS-420) Flight Technologies and Programs Division, Flight Standards Service, Federal Aviation Administration, Mike Monroney Aeronautical Center, 6500 South MacArthur Blvd., Oklahoma City, OK 73169 (Mail Address: P.O. Box 25082 Oklahoma City, OK 73125), telephone: (405) 954-4164.

SUPPLEMENTARY INFORMATION: This rule amends Title 14, Code of Federal Regulations, Part 97 (14 CFR part 97) by amending the referenced SIAPs. The complete regulatory description of each SIAP is listed on the appropriate FAA Form 8260, as modified by the National Flight Data Center (FDC)/Permanent Notice to Airmen (P-NOTAM), and is incorporated by reference in the amendment under 5 U.S.C. 552(a), 1 CFR part 51, and § 97.20 of Title 14 of the Code of Federal Regulations.

The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained in FAA form documents is unnecessary. This amendment provides the affected CFR sections and specifies the types of SIAP and the corresponding effective dates. This amendment also identifies the airport and its location, the procedure and the amendment number.

The Rule

This amendment to 14 CFR part 97 is effective upon publication of each separate SIAP as amended in the transmittal. For safety and timeliness of change considerations, this amendment incorporates only specific changes contained for each SIAP as modified by FDC/P-NOTAMs.

The SIAPs, as modified by FDC P-NOTAM, and contained in this amendment are based on the criteria contained in the U.S. Standard for Terminal Instrument Procedures (TERPS). In developing these changes to SIAPs, the TERPS criteria were applied only to specific conditions existing at the affected airports. All SIAP amendments in this rule have been previously issued by the FAA in a FDC NOTAM as an emergency action of immediate flight safety relating directly to published aeronautical charts. The circumstances which created the need for all these SIAP amendments requires making them effective in less than 30 days.

Because of the close and immediate relationship between these SIAPs and safety in air commerce, I find that notice and public procedure before adopting these SIAPs are impracticable and contrary to the public interest and, where applicable, that good cause exists for making these SIAPs effective in less than 30 days.

Conclusion

The FAA has determined that this regulation only involves an established body of technical regulations for which frequent and routine amendments are necessary to keep them operationally current. It, therefore—(1) is not a “significant regulatory action” under DOT Regulatory Order 12866; (2) is not a “significant rule” under DOT regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (Air).

Issued in Washington, DC, on March 7, 2008.
James J. Ballough,
Director, Flight Standards Service.

Adoption of the Amendment

Accordingly, pursuant to the authority delegated to me, Title 14, Code of Federal Regulations, part 97, 14 CFR part 97, is amended by amending Standard Instrument Approach Procedures, effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

§§ 97.23, 97.25, 97.27, 97.29, 97.31, 97.33, and 97.35 [Amended]

By amending: § 97.23 VOR, VOR/DME, VOR or TACAN, and VOR/DME or TACAN; § 97.25 LOC, LOC/DME, LDA, LDA/DME, SDF, SDF/DME; § 97.27 NDB, NDB/DME; § 97.29 ILS, ILS/DME, ISMLS, MLS/DME, MLS/RNAV; § 97.31 RADAR SIAPs; § 97.33 RNAV SIAPs; and § 97.35 COPTER SIAPs, Identified as follows:

* * * Effective Upon Publication

FDC date | State | City | Airport | FDC No. | Subject
02/07/08 | OK | OKLAHOMA CITY | WILL ROGERS WORLD | 8/3279 | ILS OR LOC/DME RWY 35L, ORIG.
02/22/08 | MD | FREDERICK | FREDERICK MUNI | 8/5772 | VOR-A, AMDT 2A.
02/22/08 | MD | FREDERICK | FREDERICK MUNI | 8/5773 | ILS OR LOC RWY 23, AMDT 5A.
02/22/08 | MD | FREDERICK | FREDERICK MUNI | 8/5774 | RNAV (GPS) Y RWY 23, AMDT 1.
02/22/08 | MD | FREDERICK | FREDERICK MUNI | 8/5775 | RNAV (GPS) Z RWY 23, ORIG-A.
02/22/08 | VA | LEESBURG | LEESBURG EXECUTIVE | 8/5776 | LOC RWY 17, AMDT 2A.
02/22/08 | VA | LEESBURG | LEESBURG EXECUTIVE | 8/5777 | RNAV (GPS) RWY 17, AMDT 1.
02/22/08 | VA | LEESBURG | LEESBURG EXECUTIVE | 8/5778 | VOR OR GPS-A, AMDT 1A.
02/22/08 | MD | LEONARDTOWN | ST MARYS COUNTY RGNL | 8/5779 | RNAV (GPS) RWY 11, ORIG-A.
02/26/08 | NJ | NEWARK | NEWARK LIBERTY INTL | 8/6057 | COPTER ILS/DME RWY 4L, AMDT 1B.
02/26/08 | MA | VINEYARD HAVEN | MARTHAS VINEYARD | 8/6058 | ILS OR LOC RWY 24, AMDT 2.
02/27/08 | CT | GROTON/NEW LONDON | GROTON-NEW LONDON | 8/6059 | ILS OR LOC RWY 5, AMDT 11.
02/27/08 | MA | HYANNIS | BARNSTABLE MUNI-BOARDMAN/POLANDO FIELD | 8/6060 | ILS OR LOC RWY 15, AMDT 3.
02/27/08 | ME | PORTLAND | PORTLAND INTL JETPORT | 8/6061 | ILS OR LOC RWY 29, AMDT 2.
02/27/08 | VT | BURLINGTON | BURLINGTON INTL | 8/6062 | ILS OR LOC/DME RWY 15, AMDT 23.
02/27/08 | NY | NEW YORK | LA GUARDIA | 8/6063 | ILS RWY 13, ORIG-B.
02/27/08 | NY | ISLIP | LONG ISLAND MAC ARTHUR | 8/6064 | ILS RWY 24, AMDT 2B.
02/27/08 | NY | ISLIP | LONG ISLAND MAC ARTHUR | 8/6065 | ILS RWY 6, AMDT 22.
02/27/08 | VA | LYNCHBURGH | LYNCHBURGH RGNL/PRESTON GLENN FLD | 8/6066 | ILS OR LOC RWY 4, AMDT 16.
02/27/08 | VA | RICHMOND | RICHMOND INTL | 8/6067 | ILS RWY 16, AMDT 8.
03/03/08 | FL | MIAMI | MIAMI INTL | 8/6068 | ILS OR LOC RWY 9, AMDT 9A.
02/27/08 | NH | PORTSMOUTH | PORTSMOUTH INTL AT PEASE | 8/6069 | ILS OR LOC RWY 16, AMDT 1.
03/03/08 | TN | NASHVILLE | NASHVILLE INTL | 8/6070 | ILS RWY 20L, AMDT 4A.
03/03/08 | TN | NASHVILLE | NASHVILLE INTL | 8/6071 | ILS RWY 2C, ORIG-C.
03/03/08 | FL | GAINESVILLE | GAINESVILLE RGNL | 8/6075 | ILS OR LOC RWY 29, AMDT 12C.
03/03/08 | GA | MACON | MIDDLE GEORGIA REGIONAL | 8/6076 | ILS OR LOC/DME RWY 5, ORIG-A.
03/03/08 | FL | WEST PALM BEACH | PALM BEACH INTL | 8/6077 | ILS OR LOC RWY 9L, AMDT 24A.
03/03/08 | NC | RALEIGH/DURHAM | RALEIGH-DURHAM INTL | 8/6078 | ILS RWY 5R, AMDT 26B.
03/03/08 | NC | WILMINGTON | WILMINGTON INTL | 8/6079 | ILS OR LOC RWY 24, ORIG.
03/03/08 | NC | WILMINGTON | WILMINGTON INTL | 8/6080 | ILS OR LOC RWY 35, AMDT 20D.
03/03/08 | KY | COVINGTON | CINCINNATI/NORTHERN KENTUCKY INTL | 8/6081 | ILS OR LOC RWY 9, AMDT 17.
02/27/08 | NY | ROCHESTER | GREATER ROCHESTER INTL | 8/6082 | ILS OR LOC RWY 22, AMDT 6.
03/03/08 | NC | GREENSBORO | PIEDMONT TRIAD INTL | 8/6084 | ILS RWY 5, AMDT 5A.
03/03/08 | KY | LOUISVILLE | LOUISVILLE INTL-STANDIFORD FLD | 8/6086 | ILS RWY 17R, ORIG-A.
03/03/08 | NC | ASHEVILLE | ASHEVILLE REGIONAL | 8/6087 | ILS RWY 34, AMDT 23F.
02/27/08 | WV | HUNTINGTON | TRI-STATE/MILTON J. FERGUSON | 8/6088 | ILS OR LOC RWY 12, AMDT 12.
03/03/08 | AL | MOBILE | MOBILE REGIONAL | 8/6089 | ILS OR LOC RWY 14, AMDT 30.
03/03/08 | AL | MOBILE | MOBILE REGIONAL | 8/6090 | ILS OR LOC RWY 32, AMDT 6A.
03/03/08 | AL | MONTGOMERY | MONTGOMERY REGIONAL (DANNELLY FIELD) | 8/6091 | ILS OR LOC RWY 10, AMDT 23D.
02/27/08 | PA | PITTSBURGH | ALLEGHENY COUNTY | 8/6092 | ILS RWY 28, AMDT 28.
02/27/08 | PA | ALLENTOWN | LEHIGH VALLEY INTL | 8/6094 | ILS OR LOC RWY 6, AMDT 22.
03/03/08 | FL | ORLANDO | EXECUTIVE | 8/6095 | ILS OR LOC RWY 7, AMDT 22A.
03/03/08 | MS | MERIDIAN | KEY FIELD | 8/6096 | ILS OR LOC RWY 1, AMDT 23B.
03/03/08 | SC | COLUMBIA | COLUMBIA METROPOLITAN | 8/6097 | ILS RWY 29, AMDT 3E.
03/03/08 | SC | COLUMBIA | COLUMBIA METROPOLITAN | 8/6098 | ILS RWY 5, AMDT 1A.
02/28/08 | MI | PONTIAC | OAKLAND COUNTY INTERNATIONAL | 8/6420 | ILS RWY 9R, AMDT 11B.
02/28/08 | IN | EVANSVILLE | EVANSVILLE REGIONAL | 8/6421 | ILS RWY 22, AMDT 20B.
02/28/08 | IN | TERRE HAUTE | TERRE HAUTE INTL-HULMAN FIELD | 8/6422 | ILS RWY 5, AMDT 22C.
02/28/08 | LA | SHREVEPORT | SHREVEPORT REGIONAL | 8/6425 | ILS RWY 32, AMDT 4A.
02/28/08 | LA | LAKE CHARLES | LAKE CHARLES REGIONAL | 8/6426 | ILS RWY 15, AMDT 20.
02/28/08 | NE | GRAND ISLAND | CENTRAL NEBRASKA REGIONAL | 8/6428 | ILS RWY 35, AMDT 9B.
02/28/08 | IN | INDIANAPOLIS | INDIANAPOLIS INTL | 8/6430 | ILS OR LOC RWY 14, AMDT 5A.
02/28/08 | LA | BATON ROUGE | BATON ROUGE METRO, RYAN FIELD | 8/6431 | ILS RWY 13, AMDT 27A.
02/28/08 | KS | TOPEKA | FORBES FIELD | 8/6432 | ILS OR LOC RWY 31, AMDT 9C.
02/28/08 | KS | WICHITA | WICHITA MID-CONTINENT | 8/6433 | ILS OR LOC RWY 19R, AMDT 5B.
02/28/08 | KS | WICHITA | WICHITA MID-CONTINENT | 8/6434 | ILS RWY 1R, AMDT 17.
02/28/08 | NE | LINCOLN | LINCOLN | 8/6451 | ILS OR LOC RWY 18, AMDT 6D.
02/28/08 | NE | LINCOLN | LINCOLN | 8/6452 | ILS RWY 36, AMDT 11C.
02/28/08 | ND | FARGO | HECTOR INTL | 8/6453 | ILS OR LOC RWY 18, ORIG.
02/28/08 | ND | FARGO | HECTOR INTL | 8/6454 | ILS OR LOC RWY 36, ORIG-B.
02/28/08 | WI | APPLETON | OUTAGAMIE COUNTY REGIONAL | 8/6455 | ILS OR LOC RWY 3, AMDT 17.
02/28/08 | TX | EL PASO | EL PASO INTL | 8/6459 | ILS RWY 22, AMDT 32.
02/28/08 | TX | HOUSTON | GEORGE BUSH INTERCONTINENTAL/HOUSTON | 8/6460 | ILS OR LOC RWY 33R, AMDT 12.
02/28/08 | IA | WATERLOO | WATERLOO REGIONAL | 8/6462 | ILS OR LOC RWY 12, AMDT 8D.
02/28/08 | IA | CEDAR RAPIDS | THE EASTERN IOWA | 8/6463 | ILS OR LOC RWY 9, AMDT 17.
02/28/08 | ND | MINOT | MINOT INTL | 8/6464 | ILS OR LOC RWY 31, AMDT 10.
03/03/08 | IL | PEORIA | GREATER PEORIA REGIONAL | 8/6465 | ILS OR LOC RWY 31, AMDT 7.
02/28/08 | MI | LANSING | CAPITAL CITY | 8/6466 | ILS RWY 10R, AMDT 9B.
02/28/08 | MI | GRAND RAPIDS | GERALD R. FORD INTL | 8/6467 | ILS RWY 35, ORIG-C.
02/28/08 | MI | GRAND RAPIDS | GERALD R. FORD INTL | 8/6468 | ILS RWY 8R, AMDT 5E.
02/28/08 | MI | GRAND RAPIDS | GERALD R. FORD INTL | 8/6469 | ILS RWY 26L, AMDT 20B.
02/28/08 | MI | SAGINAW | MBS INTL | 8/6470 | ILS RWY 5, AMDT 10.
02/28/08 | AR | FORT SMITH | FORT SMITH RGNL | 8/6508 | ILS OR LOC RWY 25, AMDT 21B.
03/03/08 | IL | CHICAGO | CHICAGO-O HARE INTL | 8/6509 | ILS OR LOC RWY 4R, AMDT 6G.
03/03/08 | IL | MOLINE | QUAD CITY INTL | 8/6511 | ILS OR LOC RWY 27, AMDT 1.
03/03/08 | IL | MOLINE | QUAD CITY INTL | 8/6512 | ILS OR LOC RWY 9, AMDT 30.
03/03/08 | IL | CHAMPAIGN/URBANA | UNIVERSITY OF ILLINOIS-WILLARD | 8/6513 | ILS OR LOC RWY 32R, AMDT 11C.
02/28/08 | IA | DUBUQUE | DUBUQUE REGIONAL | 8/6514 | ILS OR LOC RWY 36, ORIG-C.
02/28/08 | TX | CORPUS CHRISTI | CORPUS CHRISTI INTL | 8/6515 | ILS RWY 13, AMDT 26B.
02/28/08 | IA | DES MOINES | DES MOINES INTL | 8/6516 | ILS RWY 5, ORIG.
02/28/08 | TX | WACO | WACO REGIONAL | 8/6517 | ILS OR LOC RWY 19, AMDT 15B.
02/28/08 | LA | MONROE | MONROE REGIONAL | 8/6518 | ILS OR LOC RWY 4, AMDT 22.
02/28/08 | LA | LAFAYETTE | LAFAYETTE REGIONAL | 8/6521 | ILS OR LOC RWY 22L, AMDT 4E.
03/03/08 | IL | BLOOMINGTON/NORMAL | CENTRAL IL REGL ARPT AT BLOOMINGTON-NORMAL | 8/6522 | ILS OR LOC RWY 29, AMDT 9.
03/01/08 | IN | SOUTH BEND | SOUTH BEND REGIONAL | 8/6523 | ILS OR LOC RWY 27L, AMDT 35A.
02/28/08 | MO | SPRINGFIELD | SPRINGFIELD-BRANSON NATIONAL | 8/6526 | ILS OR LOC RWY 2, AMDT 17A.
02/28/08 | MI | BATTLE CREEK | W K KELLOGG | 8/6527 | ILS RWY 23, AMDT 17B.
02/28/08 | MI | DETROIT | DETROIT METROPOLITAN WAYNE COUNTY | 8/6528 | ILS RWY 22R, AMDT 1A.
02/28/08 | MI | DETROIT | DETROIT METROPOLITAN WAYNE COUNTY | 8/6529 | ILS RWY 27R, AMDT 11.
02/28/08 | MI | DETROIT | DETROIT METROPOLITAN WAYNE COUNTY | 8/6530 | ILS RWY 27L, AMDT 2.
02/28/08 | TX | FORT WORTH | FORT WORTH MEACHAM INTL | 8/6544 | ILS OR LOC RWY 16, AMDT 8.
02/28/08 | TX | DALLAS | DALLAS LOVE FIELD | 8/6546 | ILS OR LOC RWY 31R, AMDT 4.
02/28/08 | TX | SAN ANTONIO | SAN ANTONIO INTL | 8/6547 | ILS RWY 30L, AMDT 9.
02/28/08 | WI | GREEN BAY | AUSTIN STRAUBEL INTERNATIONAL | 8/6552 | ILS OR LOC RWY 36, AMDT 8.
02/28/08 | WI | GREEN BAY | AUSTIN STRAUBEL INTERNATIONAL | 8/6553 | ILS RWY 6, AMDT 21A.
02/29/08 | SD | SIOUX FALLS | JOE FOSS FIELD | 8/6647 | ILS OR LOC RWY 3, AMDT 27C.
02/29/08 | TX | ABILENE | ABILENE REGIONAL | 8/6648 | ILS RWY 35R, AMDT 6D.
03/03/08 | IL | BELLEVILLE | SCOTT AFB/MIDAMERICA | 8/6715 | ILS RWY 14R, ORIG-A.
03/03/08 | IL | BELLEVILLE | SCOTT AFB/MIDAMERICA | 8/6716 | ILS RWY 32R, ORIG-A.
03/01/08 | OH | WILMINGTON | AIRBORNE AIRPARK | 8/6718 | ILS RWY 4R, ORIG-A.
03/01/08 | AR | NORTHWEST ARKANSAS REGIONAL | FAYETTEVILLE/SPRINGDALE/ROGERS | 8/6719 | ILS OR LOC/DME RWY 34, AMDT 1.
03/03/08 | GA | AUGUSTA | AUGUSTA REGIONAL AT BUSH FIELD | 8/6775 | ILS OR LOC RWY 17, AMDT 8.
03/03/08 | FL | TALLAHASSE | TALLAHASSEE REGIONAL | 8/6776 | ILS OR LOC/DME RWY 36, AMDT 24.
03/03/08 | FL | JACKSONVILLE | JACKSONVILLE INTL | 8/6777 | ILS RWY 25, AMDT 1.
03/03/08 | FL | PENSACOLA RGNL | PENSACOLA | 8/6779 | ILS RWY 17, AMDT 13E.
03/03/08 | ID | IDAHO FALLS | IDAHO FALLS REGIONAL | 8/6831 | ILS RWY 20, AMDT 11C.
03/03/08 | CA | OAKLAND | METROPOLITAN OAKLAND INTL | 8/6832 | ILS OR LOC/DME RWY 27R, AMDT 35.
03/03/08 | CO | WALKER FIELD | GRAND JUNCTION | 8/6833 | ILS OR LOC RWY 11, AMDT 15.
03/03/08 | OR | PENDLETON | EASTERN OREGON REGIONAL AT PENDLETON | 8/6834 | ILS OR LOC/DME RWY 25, AMDT 24.
03/03/08 | OR | SALEM | MCNARY FLD | 8/6835 | ILS OR LOC RWY 31, AMDT 28.
03/03/08 | GA | AUGUSTA REGIONAL AT BUSH FIELD | AUGUSTA | 8/6839 | ILS OR LOC RWY 35, AMDT 27.
03/03/08 | IN | INDIANAPOLIS | INDIANAPOLIS INTL | 8/6845 | ILS OR LOC RWY 23R, AMDT 3.
03/03/08 | WA | WALLA WALLA | WALLA WALLA REGIONAL | 8/6870 | ILS OR LOC RWY 20, AMDT 8A.
03/03/08 | WA | SEATTLE | SEATTLE-TACOMA INTL | 8/6871 | ILS OR LOC/DME RWY 34C, AMDT 1.
03/06/08 | AK | BARROW | WILEY POST-WILL ROGERS MEM | 8/6872 | ILS OR LOC/DME RWY 6.
03/03/08 | CA | SANTA MARIA | SANTA MARIA PUB/CAPT G ALLAN HANCOCK FLD | 8/6873 | ILS RWY 12, AMDT 9D.
03/03/08 | WY | CHEYENNE | CHEYENNE RGNL/JERRY OLSON FIELD | 8/6874 | ILS OR LOC RWY 27, AMDT 34A.
03/03/08 | WA | MOSES LAKE | GRANT COUNTY INTL | 8/6875 | ILS OR LOC RWY 32R, AMDT 20.
03/03/08 | CA | SAN FRANCISCO | SAN FRANCISCO INTERNATIONAL | 8/6876 | ILS OR LOC RWY 28L, AMDT 22.
03/03/08 | CA | SAN FRANCISCO | SAN FRANCISCO INTERNATIONAL | 8/6877 | ILS OR LOC RWY 34L, AMDT 7.
03/03/08 | CA | ONTARIO | ONTARIO INT | 8/6878 | ILS OR LOC RWY 8L, AMDT 8A.
03/03/08 | CA | SANTA ANA | JOHN WAYNE-ORANGE COUNTY | 8/6879 | ILS RWY 19R, AMDT 11A.
03/03/08 | CA | SANTA ROSA | CHARLES M. SCHULZ-SONOMA COUNTY | 8/6882 | ILS RWY 32, AMDT 16.
03/03/08 | CO | DENVER | DENVER INTERNATIONAL | 8/6883 | ILS OR LOC RWY 25, AMDT 2A.
03/03/08 | OR | BILLINGS | BILLINGS LOGAN INTL | 8/6884 | ILS OR LOC RWY 10L, AMDT 24B.
03/03/08 | WA | BELLINGHAM | BELLINGHAM INTL | 8/6885 | ILS OR LOC RWY 16, AMDT 5.
03/03/08 | WA | TRI-CITIES | PASCO | 8/6886 | ILS OR LOC RWY 21R, AMDT 11A.
03/03/08 | ID | POCATELLO | POCATELLO REGIONAL | 8/6887 | ILS OR LOC RWY 21, AMDT 26A.
03/06/08 | AK | DEADHORSE | DEADHORSE | 8/6932 | ILS OR LOC/DME RWY 5, AMDT 2.
3/062008 | AK | FAIRBANKS | FAIRBANKS INTL | 8/6935 | ILS RWY 19R, AMDT 21A.
03/04/08 | IL | CHICAGO | CHICAGO-O HARE INTL | 8/7007 | ILS OR LOC RWY 22R, AMDT 7C.
03/04/08 | IL | DECATUR | DECATUR | 8/7008 | ILS OR LOC RWY 6, AMDT 13C.
03/04/08 | CA | SAN JOSE | NORMAN Y. MINETA SAN JOSE INTERNATIONAL | 8/7024 | ILS OR LOC/DME RWY 30L, AMDT 22.
03/04/08 | ID | POCATELLO | POCATELLO REGIONAL | 8/7029 | ILS OR LOC RWY 21, AMDT 26A.
03/04/08 | WA | YAKIMA | YAKIMA AIR TERMINAL/MCALLISTER FIELD | 8/7054 | ILS RWY 27, AMDT 26C.
03/05/08 | CA | FRESNO | FRESNO YOSEMITE INTL | 8/7206 | RNAV (GPS) RWY 11L, ORIG.
03/05/08 | CA | FRESNO | FRESNO YOSEMITE INTL | 8/7207 | VOR/DME OR TACAN RWY 29R, AMDT 1.
03/05/08 | CA | FRESNO | FRESNO YOSEMITE INTL | 8/7208 | VOR/DME OR TACAN RWY 11L, AMDT 1.
03/05/08 | CA | FRESNO | FRESNO YOSEMITE INTL | 8/7210 | LOC RWY 11L, AMDT 1A.

[FR Doc. E8-5171 Filed 3-18-08; 8:45 am]

BILLING CODE 4910-13-P